DEPARTMENT OF LABOR

Employment and Training Administration

[TA-W-73,503]

Compass Group USA, Inc. Canteen: Webster City, Iowa; Notice of Affirmative Determination Regarding Application for Reconsideration

By application dated July 9, 2010, a petitioner requested administrative reconsideration of the negative determination regarding workers' eligibility to apply for Trade Adjustment Assistance (TAA) applicable to workers and former workers of the subject firm. The determination was signed on May 24, 2010, and the Notice of Determination was published in the Federal Register on June 16, 2010 (75 FR 34175).

The initial investigation resulted in a negative determination based on the findings that the subject firm did not, during the investigation period, shift to a foreign county services like or directly competitive with the cafeteria services or vending machine services supplied by the workers or acquire from a foreign country services like or directly competitive with the cafeteria services or vending machine services supplied by the workers; that the workers' separation, or threat of separation, was not related to any increase in imports of like or directly competitive food services or a shift in service/acquisition of such food services abroad, and that the workers did not supply a service that was directly used in the production of an article or the supply of service by a firm that employed a worker group that is eligible to apply for TAA based on the aforementioned article or service.

The request for reconsideration stated that the subject workers provide “food services in direct support of Electrolux” and alleges that the shift of production by Electrolux to Mexico resulted in a shift to Mexico in the supply of food service services. The request also alleges that, in the case of adversely-affected secondary workers, the term “value-added” applies only to production process and does not apply to services.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 21st day of September 2010.
Del Min Amy Chen,
Certifying Officer, Office of Trade Adjustment Assistance.

[FR Doc. 2010-24381 Filed 9-28-10; 8:45 am]

BILLING CODE 4510-FN-P